DEPARTMENT OF AGRICULTURE

Forest Service

Glenn/Colusa County Resource Advisory Committee

AGENCY: Forest Service, USDA.

ACTION: Notice of meeting.

SUMMARY: The Glenn/Colusa County Resource Advisory Committee (RAC) met in Willows, California. Agenda items covered include: (1) Introductions, (2) Approval of Minutes, (3) Public Comment, (4) Project Proposals/Possible Action, (5) General Discussion, (6) Plan Schedule for the Next Year, (7) Next Agenda.

DATES: The meeting was held on September 25, 2006, from 1:30 p.m. and ended at approximately 4:30 p.m.

ADDRESSES: The meeting was held at the Mendocino National Forest Supervisor's Office, 825 N. Humboldt Ave., CA 95988. Individuals who wished to speak or propose agenda items sent their names and proposals to Janet Flanagan, Acting DFO, 825 N. Humboldt Ave., Willows, CA 95988.

FOR FURTHER INFORMATION CONTACT: Bobbin Gaddini, Committee Coordinator, USDA, Mendocino National Forest, Grindstone Ranger District, 825 N. Humboldt Ave., Willows, CA 95939. (530) 934-1268; E-mail ggaddini@fs.fed.us.

SUPPLEMENTARY INFORMATION: The meeting was open to the public. Committee discussion was limited to Forest Service staff and Committee members. However, persons who wished to bring matters to the attention of the Committee filed written statements with the Committee staff before or after the meeting. Public input sessions were provided and individuals who made written requests by September 23, 2006 had the opportunity to address the committee at those sessions.

Dated: September 21, 2006.
Janet Flanagan,
Acting Designated Federal Official.

[FR Doc. 06-8327 Filed 9-27-06; 8:45 am]

BILLING CODE 3410-11-M